DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 30, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Farm Loan Program (FLP)—Online Loan Application.

OMB Control Number: 0560-NEW.

Summary of Collection: The Farm Service Agency (FSA) is implementing a new Online Loan Application to collect information electronically from the applicants and borrowers. FSA provides loans to family farmers to purchase real estate and equipment and finance agricultural production authorized under the Consolidated Farm and Rural Development Act (CONACT) (7 U.S.C. 1921 and Pub. L. 87-128), as amended. Direct loan making information collection requirements include debt verifications, employment & income verification, and actual financial and production records of the operation.

Need and Use of the Information: FSA is collecting the information that is necessary to thoroughly evaluate the applicant's request for a direct loan to ensure that: the applicant meets the established program eligibility requirements; their cash flow projections used in determining loan repayment are based on the actual financial and production history of the operation and a loan is adequately secured. FSA is mandated to provide supervised credit, failure to collect the information, or collecting it less frequently, could result in the failure of the farm operation or loss of FSA security property. If the information were not collected, or collected less frequently, FSA would be unable to meet the congressionally mandated mission of the loan programs.

Description of Respondents: Farms; Business or other for-profit.

Number of Respondents: 21,610.

Frequency of Responses: Reporting: Other (when applying for loans).

Total Burden Hours: 59,389.

Ruth Brown,
Departmental Information Collection Clearance Officer.

[FR Doc. 2023-21452 Filed 9-28-23; 8:45 am]

BILLING CODE 3410-05-P